DEPARTMENT OF THE INTERIOR

Bureau of Land Management

[AZ-956-08-1420-BJ]

Notice of Filing of Plats of Survey; Arizona

AGENCY: Bureau of Land Management, Interior.

ACTION: Notice.

SUMMARY: The plats of survey of the described lands were officially filed in the Arizona State Office, Bureau of Land Management, Phoenix, Arizona, on dates indicated.

SUPPLEMENTARY INFORMATION:

The Gila and Salt River Meridian, Arizona:

The plat representing the survey of the metes-and-bounds surveys in sections 7 and 8, Township 21 North, Range 3 East, accepted January 16, 2008, and officially filed January 22, 2008, for Group 1020, Arizona.

This plat was prepared at the request of the United States Forest Service.

The plat representing the dependent resurvey of a portion of the north boundary and the corrective dependent resurveys of a portion of the subdivisional lines, a portion of the 1892 and 1973-75 meanders of the left bank of the Verde River through section 5, a portion of the subdivision of the northwest quarter of section 5, and a portion of a metes-and-bounds survey in the northwest quarter of section 5, Township 13 North, Range 5 East, accepted January 10, 2008, and officially filed January 15, 2008, for Group 916, Arizona.

This plat was prepared at the request of the United States Forest Service.

The plat representing the dependent resurvey of a portion of the subdivisional lines and the subdivision of section 28, Township 20 North, Range 7 East, accepted November 23, 2007, and officially filed November 29, 2007, for Group 1016, Arizona.

This plat was prepared at the request of the United States Forest Service.

The plat representing the dependent resurvey of the Fourth Guide Meridian East (east boundary), the south and north boundaries and the subdivisional lines and the survey of the subdivision of all sections, Township 22 North, Range 16 East, accepted December 6, 2007, and officially filed December 13, 2007, for Group 958, Arizona.

This plat was prepared at the request of the Bureau of Indian Affairs, Navajo Regional Office.

The plat representing the dependent resurvey of the south, west and north boundaries, and the subdivisional lines, and the subdivision of all sections, Township 23 North, Range 18 East, accepted April 7, 2008, and officially filed April 11, 2008, for Group 1015, Arizona.

This plat was prepared at the request of the Bureau of Indian Affairs, Navajo Regional Office.

The plat (3 sheets) representing the dependent resurvey of the Sixth Standard Parallel North (south boundary), Township 25 North, Range 17 East, the Sixth Standard Parallel North (south boundary) Township 25 North, Range 18 East, which are identical with portions of the Hopi-Navajo Partition Line, Segment “A” and the dependent resurvey of portions of the Hopi-Navajo Partition Line, Segment “A”, the east and west boundaries and the subdivisional lines and the subdivision of certain sections and metes-and bounds surveys, Township 24 North, Range 18 East, accepted September 2, 2008, and officially filed September 5, 2008, for Group 1023, Arizona.

This plat was prepared at the request of the Bureau of Indian Affairs, Navajo Regional Office.

The supplemental plat of section 6, Township 30 North, Range 18 East, accepted August 14, 2008, and officially filed August 19, 2008, for Group 887, Arizona.

This plat was prepared at the request of the Bureau of Indian Affairs, Western Regional Office.

The plat representing the dependent resurvey of the south and west boundaries, the subdivisional lines, and the subdivision of sections 6, 24, 32 and 34, Township 22 North, Range 19 East, accepted September 2, 2008, and officially filed September 5, 2008, for Group 1024, Arizona.

This plat was prepared at the request of the Bureau of Indian Affairs, Navajo Regional Office.

The plat representing the dependent resurvey of a portion of the Hopi-Navajo Partition Line, Segment “D” and the survey of a portion of the south boundary and a portion of the subdivisional lines, Township 35 North, Range 19 East, accepted March 13, 2008, and officially filed March 19, 2008, for Group 1026, Arizona.

This plat was prepared at the request of the Bureau of Indian Affairs, Western Regional Office.

The plat representing the dependent resurvey of a portion of the east boundary, Hopi Indian Reservation, Executive Order dated December 16, 1882, and the survey of portions of the south and north boundaries and subdivisional lines, and a metes-and-bounds survey of Tract 37, Township 27 North, Range 22 East, accepted October 30, 2007, and officially filed November 6, 2007, for Group 986, Arizona.

This plat was prepared at the request of the Bureau of Indian Affairs, Navajo Regional Office.

The supplemental plat of Tract 37 in sections 30 and 31, Township 27 North, Range 23 East, accepted October 30, 2007, and officially filed November 6, 2007, for Group 986, Arizona.

This plat was prepared at the request of the Bureau of Indian Affairs, Navajo Regional Office.

The plat (2 sheets) representing the dependent resurvey of the Sixth Guide Meridian East (east boundary) and the survey of the subdivisional lines, Township 26 North, Range 24 East, accepted January 11, 2008, and officially filed January 17, 2008, for Group 987, Arizona.

This plat was prepared at the request of the Bureau of Indian Affairs, Navajo Regional Office.

The plat representing the dependent resurvey of the subdivisional lines, Township 23 North, Range 27 East, accepted January 11, 2008, and officially filed January 17, 2008, for Group 886, Arizona.

This plat was prepared at the request of the Bureau of Indian Affairs, Navajo Regional Office.

The plat (3 sheets) representing the dependent resurvey of a portion of the subdivisional lines and a portion of the subdivision of section 14 and the subdivision of sections 4, 6, 10, 22, 23, 27, 28 and 34, and metes-and-bounds surveys in sections 14, 22 and 23, Township 21 North, Range 28 East, accepted January 25, 2008, and officially filed January 31, 2008, for Group 1008, Arizona.

This plat was prepared at the request of the Bureau of Indian Affairs, Navajo Regional Office.

The plat representing the survey of the west, south and north boundaries, and the subdivisional lines, Township 35 North, Range 28 East, accepted April 15, 2008, and officially filed April 17, 2008, for Group 1019, Arizona.

This plat was prepared at the request of the Bureau of Indian Affairs, Navajo Regional Office.

The plat (8 sheets) representing the dependent resurvey of a portion of the south, west and north boundaries and the subdivisional lines and the subdivision of sections and metes-and-bounds surveys, Township 22 North, Range 30 East, accepted April 29, 2008, and officially filed May 9, 2008, for Group 920, Arizona.

This plat was prepared at the request of the Bureau of Indian Affairs, Navajo Regional Office.

The plat representing the corrective resurvey of a portion of the west boundary, a portion of the subdivisional lines, and a portion of the metes-and-bounds surveys, Township 22 North, Range 31 East, accepted January 25, 2008, and officially filed January 31, 2008, for Group 899, Arizona.

This plat was prepared at the request of the Bureau of Indian Affairs, Navajo Regional Office.

The plat representing the dependent resurvey of a portion of the east boundary, a portion of the subdivisional lines, and portions of Tract Numbers 38 and 39, the subdivision of sections 12 and 13 and a metes-and-bounds survey in section 12, Township 13 North, Range 3 West, accepted February 27, 2008, and officially filed March 5, 2008 for Group 1027, Arizona.

This plat was prepared at the request of the United States Forest Service.

The supplemental plat of section 32, Township 27 North, Range 14 West, accepted August 14, 2008, and officially filed August 19, 2008, for Group 9103, Arizona.

This plat was prepared at the request of the Bureau of Indian Affairs, Western Regional Office.

The plat (2 sheets) representing the dependent resurvey of a portion of the west boundary of the Luis Maria Baca Grant, Float No. 3 and a portion of the subdivisional lines and the metes-and-bounds survey of the exterior boundary of the Tumacacori National Historical Park, Township 21 South, Range 13 East, accepted December 4, 2007, and officially filed December 7, 2007 for Group 954, Arizona.

This plat was prepared at the request of the National Park Service.

A person or party who wishes to protest against any of these surveys must file a written protest with the Arizona State Director, Bureau of Land Management, stating that they wish to protest.

A statement of reasons for a protest may be filed with the notice of protest to the State Director, or the statement of reasons must be filed with the State Director within thirty (30) days after the protest is filed.

FOR FURTHER INFORMATION CONTACT: These plats will be available for inspection in the Arizona State Office, Bureau of Land Management, One North Central Avenue, Suite 800, Phoenix, Arizona, 85004-4427.

Gary D. Knoff,
Acting Chief Cadastral Surveyor.

[FR Doc. E8-22291 Filed 9-22-08; 8:45 am]

BILLING CODE 4310-32-P